DEPARTMENT OF COMMERCE

National Oceanic and Atmospheric Administration

RIN 0648-XA647

Endangered and Threatened Species; Recovery Plans

AGENCY: National Marine Fisheries Service, National Oceanic and Atmospheric Administration, Commerce.

ACTION: Notice of Availability.

SUMMARY: The National Marine Fisheries Service (NMFS) announces the adoption of an Endangered Species Act (ESA) recovery plan for the Upper Willamette Chinook salmon (Oncorhynchus tshawytscha) Evolutionarily Significant Unit (ESU) and the Upper Willamette River steelhead (Oncorhynchus mykiss) Distinct Population Segment (DPS), which spawn and rear in tributaries to the Willamette River in western Oregon. The Final Upper Willamette River Conservation and Recovery Plan for Chinook Salmon and Steelhead (Final Recovery Plan) and our summary of and responses to public comments are now available.

ADDRESSES: Electronic copies of the Final Recovery Plan and a summary of and response to public comments on the Proposed Recovery Plan (Proposed Plan) are available online at http://www.nwr.noaa.gov/Salmon-Recovery-Planning/Recovery-Domains/Willamette-Lower-Columbia/Index.cfm. A CD-ROM of these documents can be obtained by emailing a request to rob.walton@noaa.gov or by writing to NMFS Protected Resources Division, 1201 NE., Lloyd Blvd., Portland, OR 97202.

FOR FURTHER INFORMATION CONTACT: Rob Walton, National Marine Fisheries Service, (503) 231-2285.

SUPPLEMENTARY INFORMATION:

Background

The Endangered Species Act of 1973 (ESA), as amended (16 U.S.C. 1531 et seq.) requires that we develop and implement recovery plans for the conservation and survival of threatened and endangered species under our jurisdiction, unless it is determined that such plans would not result in the conservation of the species. We designated Upper Willamette Chinook salmon as threatened on in the Federal Register on June 28, 2005 (70 FR 37160) and steelhead as threatened on January 5, 2006 (71 FR 834).

We published a Notice of Availability of the Proposed Plan in the Federal Register on October 22, 2010 (75 FR 65299) and held four public meetings to obtain comments on the Proposed Plan. We received over 30 comments on the Proposed Plan and summarized the public comments, prepared responses, and identified the public comments that prompted revisions for the Final Recovery Plan. We revised the Proposed Plan based on the comments received, and this final version now constitutes the Upper Willamette River Conservation and Recovery Plan for Chinook Salmon and Steelhead.

The Final Recovery Plan

The ESA requires that recovery plans incorporate, to the extent practicable: (1) Objective, measurable criteria which, when met, would result in a determination that the species is no longer threatened or endangered; (2) site-specific management actions necessary to achieve the plan's goals; and (3) estimates of the time required and costs to implement recovery actions. Our goal is to restore the threatened Upper Willamette Chinook salmon and steelhead to the point where they are again secure, self-sustaining members of their ecosystems and no longer need the protections of the ESA.

The Final Recovery Plan provides background on the natural history of Upper Willamette Chinook salmon and steelhead, population trends and the potential threats to their viability. The Final Recovery Plan lays out a recovery strategy to address the potential threats based on the best available science and includes goals that incorporate objective, measurable criteria which, when met, would result in a determination that the species be removed from the list. The Final Recovery Plan is not regulatory, but presents guidance for use by agencies and interested parties to assist in the recovery of Upper Willamette salmon and steelhead. The Final Recovery Plan identifies substantive actions needed to achieve recovery by addressing the threats to the species. The strategy for recovery includes a linkage between management actions and an active research and monitoring program intended to fill data gaps and assess effectiveness. The Final Recovery Plan incorporates an adaptive management framework by which management actions and other elements will evolve and adapt as we gain information through research and monitoring and it describes the agency guidance on time lines for reviews of the status of species and recovery plans. To address threats related to the species, the Final Recovery Plan references many of the significant efforts already underway to restore salmon and steelhead access to high quality habitat and to improve habitat previously degraded.

We expect the Final Recovery Plan to help us and other Federal agencies take a consistent approach to section 7 consultations under the ESA and to other ESA decisions. For example, the Final Recovery Plan will provide information on the biological context for the effects that a proposed action may have on the listed ESU and DPS. The best available information in the Final Recovery Plan on the natural history, threats, and potential limiting factors, and priorities for recovery can be used to help assess risks. Consistent with the adoption of this Final Recovery Plan for Upper Willamette salmon and steelhead, we will implement relevant actions for which we have authority, work cooperatively on implementation of other actions, and encourage other Federal and state agencies to implement recovery actions for which they have responsibility and authority.

Recovery of Upper Willamette salmon and steelhead will require a long-term effort in cooperation and coordination with Federal, state, tribal and local government agencies, and the community.

Conclusion

NMFS has reviewed the Plan for compliance with the requirements of the ESA section 4(f), determined that it does incorporate the required elements and is therefore adopting it as the Final Recovery Plan for Upper Willamette salmon and steelhead.

Authority: 16 U.S.C. 1531 et seq.

Dated: August 16, 2011.
Therese Conant,
Deputy Chief, Endangered Species Division, Office of Protected Resources, National Marine Fisheries Service.

[FR Doc. 2011-21383 Filed 8-19-11; 8:45 am]

BILLING CODE 3510-22-P